DEPARTMENT OF THE INTERIOR

Fish and Wildlife Service

Klamath River Basin Fisheries Task Force

AGENCY: Fish and Wildlife Service, Interior.

ACTION: Notice of meeting.

SUMMARY: We, the Fish and Wildlife Service, announce a meeting of the Klamath River Basin Fisheries Task Force. The meeting is open to the public. The purpose of the meeting is to allow affected interests to continue providing recommendations to us on implementation of our program to restore anadromous fisheries, including salmon and steelhead, in the Klamath River in California and Oregon.

DATE: The meeting will be from 9 a.m. to 5 p.m. on February 8, 2006, and from 8 a.m. to 1 p.m. on February 9, 2006.

ADDRESSES: The meeting will be held at the Best Western Beachfront Inn, 16008 Boat Basin Road, Brookings, Oregon.

FOR FURTHER INFORMATION CONTACT: Phil Detrich, Field Supervisor, U.S. Fish and Wildlife Service, 1829 South Oregon Street, Yreka, California 96097, telephone (530) 842-5763.

SUPPLEMENTARY INFORMATION: Under section 10(a)(2) of the Federal Advisory Committee Act (5 U.S.C. App. I), we announce a meeting of the Klamath River Fisheries Task Force. This task force was established under the Klamath River Basin Fishery Restoration Act (16 U.S.C. 460ss et seq.).

For background information on the Task Force, please refer to the Federal Register notice of the initial meeting (July 8, 1987, 52 FR 25639).

Dated: January 25, 2006.
John Engbring,
Acting California/Nevada Operations Manager, California/Nevada Office, Fish and Wildlife Service.

[FR Doc. E6-1294 Filed 1-31-06; 8:45 am]

BILLING CODE 4310-55-P